DEPARTMENT OF STATE

[Public Notice 7576]

Final Environmental Impact Statement for the Proposed Keystone XL Project

AGENCY: Department of State.

ACTION: Notice of availability of the final environmental impact statement for the proposed Keystone XL Project.

SUMMARY: Consistent with the National Environmental Policy Act (NEPA) of 1969, as amended, the staff of the U.S. Department of State (DOS) prepared a final environmental impact statement (final EIS) for the proposed Keystone XL Project (Project). On September 19, 2008, the applicant, TransCanada Keystone Pipeline, LP (TransCanada) filed an application for a Presidential Permit for the construction, operation, and maintenance of pipeline facilities at the border of the U.S. and Canada for the transport of crude oil across the U.S./Canada international boundary. TransCanada has requested authorization to construct and operate border crossing facilities at the U.S./Canadian border in Phillips County, near Morgan, Montana, in connection with the proposed Project that is designed to transport crude oil produced from oil sands in the Western Canadian Sedimentary Basin (WCSB) and other sources to a proposed oil storage facility in Cushing, Oklahoma, and to a delivery points near Nederland and Moore Junction, Texas.

The Secretary of State is designated and empowered to receive all applications for Presidential permits, as referred to in Executive Order 13337, as amended, for the construction, connection, operation, or maintenance at the borders of the United States, of facilities for the exportation or importation of petroleum, petroleum products, coal, or other fuels to or from a foreign country. As a part of the review of the application for Presidential Permits, the Secretary of State must determinate whether or not the projects would be in the national interest. The determination of national interest involves consideration of many factors, including energy security; environmental, cultural, and economic impacts. Before making a decision on the proposed Project, DOS will consult with the eight federal agencies identified in Executive Order 13337: The Departments of Energy, Defense, Transportation, Homeland Security, Justice, Interior, and Commerce, and the Environmental Protection Agency. DOS will also solicit public input on the national interest determination by accepting written comments and holding comment meetings in the six states traversed by the proposed route and a final meeting in Washington, DC.

SUPPLEMENTARY INFORMATION: The final EIS was prepared consistent with the requirements of the National Environmental Policy Act (NEPA), the Council on Environmental Quality regulations implementing NEPA (40 CFR 1500), and the DOS regulations for implementing NEPA (22 CFR 161). The final EIS includes an appendix that was prepared consistent with the requirements of the Montana Environmental Policy Act (MEPA) and the Montana Major Facility Siting Act (MFSA). The final EIS describes the proposed Project; the purpose of and need for the proposed Project; alternatives to the proposed Project, including the No Action Alternative, system alternatives, alternative routes, alternative pipeline designs, and alternative sites for aboveground facilities; the potential impacts of the proposed Project and alternatives; cumulative impacts associated with construction and operation of the proposed Project; issues related to potential spills from the proposed Project; and the agency-preferred alternative. The final EIS addresses the potential environmental effects of the construction and operation of the portion of the proposed Keystone XL Project in the U.S., as well as connected actions to that project such as the construction of powerlines to serve pump stations on the pipeline and two projects that would provide shipping access on the pipeline to domestic crude oil producers. DOS assessed the potential impacts of the projects based on currently available information.

The Federal and State agencies that served as Cooperating Agencies in the development of the EIS consisted of the U.S. Army Corps of Engineers; the U.S. Department of Agriculture—Natural Resources Conservation Service, Farm Service Agency, and Rural Utilities Service; the U.S. Department of Energy—Office of Policy and International Affairs and Western Area Power Administration; the U.S. Department of the Interior—Bureau of Land Management, National Park Service, and U.S. Fish and Wildlife Service; the U.S. Department of Transportation, Pipeline and Hazardous Materials Safety Administration (PHMSA), Office of Pipeline Safety; the U.S. Environmental Protection Agency; and the Montana Department of Environmental Quality. Cooperating agencies either have jurisdiction by law or special expertise with respect to the environmental impacts assessed in connection with the proposal and are involved in the DOS analysis of those environmental impacts. BLM's purpose and need in preparing an EIS for the proposed Project is to respond to the Keystone application under Section 28 of the Mineral Leasing Act of 1920, as amended (MLA; 30 U.S.C. 185) for a right-of-way (ROW) grant to construct, operate, maintain, and decommission a crude oil pipeline and related facilities on federal lands in compliance with the MLA, BLM ROW regulations, and other applicable federal laws. BLM will decide whether to approve, approve with modification, or deny issuance of a ROW grant to Keystone for the proposed Project, and if so, under what terms and conditions. The proposed ROW action appears consistent with approved BLM land use planning.

In total, the Keystone XL Project would consist of approximately 1,711 miles of new, 36-inch-diameter pipeline, with approximately 327 miles of pipeline in Canada and 1,384 miles in the U.S. The overall proposed Keystone XL Project is estimated to cost $7 billion. If permitted, it would begin operation in 2013, with the actual date dependent on the necessary permits, approvals, and authorizations.

The following U.S. counties could possibly be affected by construction of the proposed Project:

• Montana: Phillips, Valley, McCone, Dawson, Prairie, Fallon.

• South Dakota: Harding, Butte, Perkins, Meade, Pennington, Haakon, Jones, Lyman, Tripp.

• Nebraska: Keya Paha, Rock, Holt, Garfield, Wheeler, Greeley, Boone, Nance, Merrick, Hamilton, York, Fillmore, Saline, Jefferson.

• Kansas: Clay, Butler.

• Oklahoma: Atoka, Bryan, Coal, Creek, Hughes, Lincoln, Okfuskee, Payne, Seminole.

• Texas: Angelina, Cherokee, Delta, Fannin, Franklin, Hardin, Hopkins, Jefferson, Lamar, Liberty, Nacogdoches, Polk, Rusk, Smith, Upshur, Wood, Chambers, Harris.

Copies of the final EIS have been mailed to interested federal, state and local agencies; public interest groups; individuals and affected landowners who requested a copy of the final EIS or who provided comments during the scoping period or the public comment periods on the draft and supplemental draft EISs; libraries; newspapers; and other stakeholders.

FOR FURTHER INFORMATION CONTACT: The DOS Project Web site (http://www.keystonepipeline-xl.state.gov) provides Project-related information for viewing and downloading, including the Keystone application for a Presidential Permit and associated maps and drawings, supplemental information filed by Keystone, the final EIS, and a list of libraries where the final EIS may be viewed.

For information on the proposed Project or the final EIS, contact Alexander Yuan, OES/ENV Room 2657, U.S. Department of State, Washington, DC 20520, or by telephone (202) 647-4284, or by fax at (202) 647-5947.

Issued in Washington, DC, on September 2, 2011.

Dated: August 30, 2011.
John E. Thompson,
Acting Director, Bureau of Oceans and International Environmental and Scientific Affairs/Office of Environmental Policy, U.S. Department of State.

[FR Doc. 2011-22689 Filed 9-2-11; 8:45 am]

BILLING CODE 4710-09-P